DEPARTMENT OF JUSTICE

Drug Enforcement Administration

[Docket No. DEA-392]

Importer of Controlled Substances Registration: Arizona Department of Corrections, Aspc-Florence

ACTION: Notice of registration.

SUMMARY: Arizona Department of Corrections, ASPC-Florence applied to be registered as an importer of a certain basic class of controlled substance. The DEA grants Arizona Department of Corrections, ASPC-Florence registration as an importer of this controlled substance.

SUPPLEMENTARY INFORMATION: By notice dated May 28, 2014, and published in the Federal Register on June 4, 2014, 79 FR 32317, Arizona Department of Corrections, ASPC-Florence, 1305 E. Butte Avenue, Florence, Arizona 85132, applied to be registered as an importer of a certain basic class of controlled substance. No comments or objections were submitted for this notice.

The Drug Enforcement Administration (DEA) has considered the factors in 21 U.S.C. 823, 952(a) and 958(a) and determined that the registration of Arizona Department of Corrections, ASPC-Florence to import the basic class of controlled substance is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of Pentobarbital (2270), a basic class of controlled substance listed in schedule II.

The facility intends to import the above listed controlled substance for legitimate use. Supplies of this particular controlled substance are inadequate and are not available in the form needed within the current domestic supply of the United States.

Dated: August 27, 2014.
Joseph T. Rannazzisi,
Deputy Assistant Administrator.

[FR Doc. 2014-21083 Filed 9-3-14; 8:45 am]

BILLING CODE 4410-09-P